DEPARTMENT OF THE TREASURY

United States Mint

Pricing for Armed Forces 2.5 oz. Silver Medals

AGENCY: United States Mint, Department of the Treasury.

ACTION: Notice.

The United States Mint is announcing a price of $160.00 for the Armed Forces 2.5 oz. Silver Medals.

FOR FURTHER INFORMATION CONTACT: Ann Bailey, Sales and Marketing; United States Mint; 801 9th Street NW, Washington, DC 20220; or call 202-354-7500.

Authority: 31 U.S.C. 5111(a)(2).

Eric Anderson,
Executive Secretary, United States Mint.

[FR Doc. 2021-01960 Filed 1-28-21; 8:45 am]

BILLING CODE P